DEPARTMENT OF TRANSPORTATION

National Highway Traffic Safety Administration

[NHTSA Docket No. NHTSA-2009-0099]

National Emergency Medical Services Advisory Council (NEMSAC); Notice of Federal Advisory Committee Meeting

AGENCY: National Highway Traffic Safety Administration (NHTSA), Department of Transportation (DOT).

ACTION: National Emergency Medical Services Advisory Council (NEMSAC); Notice of Federal Advisory Committee Meeting.

SUMMARY: The NHTSA announces a meeting of NEMSAC to be held in the Metropolitan Washington, DC area. This notice announces the date, time and location of the meeting, which will be open to the public. The purpose of NEMSAC is to provide a nationally recognized council of emergency medical services representatives and consumers to provide advice and recommendations regarding Emergency Medical Services (EMS) to the U.S. DOT's NHTSA.

DATES: The meeting will be held on June 2, 2009, from 1 p.m. to 5 p.m., and June 3, 2009, from 8 a.m. to 11:30 a.m. A public comment period will take place on June 3, 2009, between 10 a.m. and 10:30 a.m.

Comment Date: Written comments or requests to make oral presentations must be received by May 26, 2009.

ADDRESSES: The meeting will be held at the Crystal Gateway Marriott, 1700 Jefferson Davis Highway, Arlington, VA 22202. Persons wishing to make an oral presentation or who are unable to attend or speak at the meeting may submit written comments. Written comments and requests to make oral presentations at the meeting should reach Drew Dawson at the address listed below and must be received by May 26, 2009.

All submissions received must include the docket number, NHTSA-2009-0099, and may be submitted by any one of the following methods: You may submit or retrieve comments online through the Document Management System (DMS) at http://www.regulations.gov/ under the docket number listed at the beginning of this notice. The DMS is available 24 hours each day, 365 days each year. Electronic submission and retrieval help guidelines are available under the help section of the Web site.

An electronic copy of this document may be downloaded from the Federal Register's home page at http://www.archives.gov and the Government Printing Office's database at http://www.access.gpo.gov/nara.

Please note that even after the comment closing date, we will continue to file relevant information in the docket as it becomes available.

E-mail: drew.dawson@dot.gov or susan.mchenry@dot.gov.

Fax: (202) 366-7149.

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

SUPPLEMENTARY INFORMATION: Notice of this meeting is given under the Federal Advisory Committee Act (FACA), Public Law 92-463, as amended (5 U.S.C. App. 1 et seq.). The NEMSAC will be holding its sixth meeting on Tuesday and Wednesday, June 2 and 3, 2009, at the Crystal Gateway Marriott, 1700 Jefferson Davis Highway, Arlington, VA 22202.

Agenda of Council Meeting, June 2-3, 2009

The tentative agenda includes the following:

Tuesday, June 2, 2009

(1) Opening Remarks;

(2) Introduction of Members and all in attendance;

(3) Review and Approval of Minutes of last Meeting;

(4) Committee Reports and Discussion.

Wednesday, June 3, 2009

(1) Welcome and Introductions;

(2) Unfinished Business from June 2;

(3) Public Comment Period;

(4) Next Steps and Future Meetings.

A public comment period will take place on June 3, 2009, between 10 a.m. and 10:30 a.m..

Public Attendance: The meeting is open to the public. Persons with disabilities who require special assistance should advise Drew Dawson of their anticipated special needs as early as possible. Members of the public who wish to make comments on Wednesday, June 3 between 10 a.m. and 10:30 a.m. are requested to register in advance. In order to allow as many people as possible to speak, speakers are requested to limit their remarks to 3 minutes. For those wishing to submit written comments, please follow the procedure noted above.

This meeting will be open to the public. Individuals wishing to register must provide their name, affiliation, phone number, and e-mail address to Drew Dawson by e-mail at drew.dawson@dot.gov or by telephone at (202) 366-9966 no later than May 26, 2009. There will be limited seating, so please register early. Pre-registration is necessary to enable proper arrangements.

Minutes of the NEMSAC Meeting will be available to the public online through the DOT Document Management System (DMS) at: http://www.regulations.gov under the docket number listed at the beginning of this notice.

Issued on: May 14, 2009.
Jeffrey P. Michael,
Associate Administrator for Research and Program Development.

[FR Doc. E9-11659 Filed 5-18-09; 8:45 am]

BILLING CODE 4910-59-P